DEPARTMENT OF JUSTICE

[AAG/A Order No. 264-2002]

Privacy Act of 1974; System of Records

Pursuant to the Privacy Act of 1974 (5 U.S.C. 552a), the Immigration and Naturalization Service (INS), Department of Justice, proposes to modify and publish as a separate system of records, Subsystem L of the Immigration and Naturalization Service Index System, JUSTICE/INS-001, which was published on October 5, 1993 (58 FR 51347). Subsystem L was previously entitled “Naturalization and Citizenship Indexes.” As a new and separate system of records, it is now retitled “The Redesigned Naturalization Application Casework System (RNACS), JUSTICE/INS-031.”

The following captions of the notice reflect changes: (1) System Name, (2) Categories of Individuals Covered by the System, (3) Categories of Records in the System, (4) Purpose, (5) Routine Uses, (6) Storage, and (7) Retention and Disposal. RNACS does not track Freedom of Information Act and Privacy Act (FOIA/PA) requests/responses. Therefore, references to tracking this information has been deleted in the Categories of Individuals, Categories of Records and Purpose sections. Applicable routine uses from JUSTICE/INS-001 have remained. INS is adding three new routine use disclosures. Routine use H permits the disclosure of information to an obligor who has posted an immigration bond. Information will be released that will aid the obligor in locating an individual who has failed to appear at an immigration proceeding and also allows the obligor to review the propriety of an INS notice of breach of bond and/or the related appearance demand. Routine use I will allow contractors working for INS to have access to the information in this system of records. Routine use J allows disclosure to former employees when the Department of Justice requires information and/or consultation assistance from the former employee that is necessary for personnel-related or other official purposes regarding a matter within that person's former area of responsibility. Information is no longer stored on disks and tape and the Storage portion reflects this change. The retention and disposal section is being edited to reflect changes in the automated system. Finally, the system is being modified to remove its exempt status.

In accordance with 5 U.S.C. 552a(e)(4) and (11), the public is given a 30-day period in which to comment on proposed new routine use disclosures. The Office of Management and Budget (OMB), which has oversight responsibility under the Act, requires a 40-day period in which to conclude its review of the system. Therefore, please submit any comments by May 29, 2002. The public, OMB, and the Congress are invited to submit any comments to Mary Cahill, Management Analyst, Management and Planning Staff, Justice Management Division, Department of Justice, Washington, DC 20530 (Room 1400, National Place Building).

In accordance with 5 U.S.C. 552a(r), the Department has provided a report to OMB and the Congress on this system.

Dated: April 16, 2002.
Robert F. Diegelman,
Acting Assistant Attorney General for Administration.

JUSTICE/INS-031

System Name:

Redesigned Naturalization Application Casework System (RNACS).

System Location:

Immigration and Naturalization Service (INS) Headquarters, Regional Service Centers, District Offices and sub-offices as detailed in Justice/INS-999, last published in the Federal Register on April 13, 1999 (64 FR 18052).

Categories of Individuals Covered by The System:

Individuals who have filed applications for naturalization, citizenship, or to replace naturalization certificates under the Immigration and Nationality Act, as amended, and/or who have submitted fee payments with such applications.

Categories of Records in The System:

Information that identifies individuals named above, e.g., name and address, date of birth, and alien registration number. Records in the system may also include information such as date documents were filed or received in INS, status, and location of record.

Authority For Maintenance of The System:

8 U.S.C. 1103; 8 U.S.C. 1363; and 31 U.S.C. 3512.

Purpose(s):

This system enables INS to determine the status of pending applications for naturalization; to account for and control the receipt and disposition of any fees collected; to schedule naturalization interviews; to schedule naturalization ceremonies; to print naturalization certificates; and to print information to be sent to applicants and their attorneys on information related to their applications.

Routine Uses of Records Maintened in The System, Including Categories Of Users And the Purposes of Such Uses:

A. To any federal agency, where appropriate, to enable such agency to make determinations regarding the payment of federal benefits to the record subject in accordance with that agency's statutory responsibilities.

B. In an appropriate proceeding before a court, grand jury, or administrative or regulatory body when records are determined by the Department of Justice to be arguably relevant to the proceeding.

C. To an actual or potential party or to his or her attorney for the purpose of negotiation or discussion on such matters as settlement of the case or matter, or informal discovery proceedings.

D. Where a record, either on its face or in conjunction with other information, indicates a violation or potential violation of law, to any civil or criminal law enforcement authority or other appropriate agency, whether federal, state, local, foreign, or tribal, charged with the responsibility of investigating or prosecuting such a violation or enforcing or implementing a statute, rule, regulation, or order.

E. To the news media and the public pursuant to 28 CFR 50.2 unless it is determined that release of the specific information in the context of a particular case would constitute an unwarranted invasion of personal privacy.

F. To a Member of Congress, or staff acting upon the Member's behalf, when the Member or staff requests the information on behalf of and at the request of the individual who is the subject of the record.

G. To the General Services Administration and National Archives and Records Administration (NARA) in records management inspections conducted under the authority of 44 U.S.C. 2904 and 2906.

H. To an obligor who has posted a bond with the INS for the subject. INS may provide only such information, as either (1) may aid the obligor in locating the subject to insure his or her presence when required by INS, or (2) assist the obligor in evaluating the propriety of the following actions by INS: breach of bond —i.e., notice to the obligor that the subject of the bond has failed to appear which would render the full amount of the bond due and payable.

I. To contractors, grantees, experts, consultants, students, and others performing or working on a contract, service, grant, cooperative agreement, or other assignment for the Federal Government, when necessary to accomplish an agency function related to this system of records.

J. Pursuant to subsection (b)(3) of the Privacy Act, the Department may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices For Storing Retrieving, Accessing, Retaining, And Disposing of Records in The System: Storage:

Information is stored on an IBM mainframe computer at the Justice Data Center in Dallas, Texas.

Retrievability:

Records may be retrieved by the alien registration number of the individuals covered by the system.

Safeguards:

Most INS offices are located in buildings under security guard, and access to premises is by official identification. Offices are locked during non-duty hours. Access to this system is obtained through remote terminals that require the use of restricted passwords and user identification.

Retention and Disposal:

The following INS proposal for retention and disposal is pending approval by NARA. Applications and supporting documents are placed in the Alien File (See JUSTICE/INS-001A). Electronic copies are stored on an IBM mainframe computer at the Justice Data Center in Dallas, Texas for ten years and then destroyed.

System Manager(s) and Address:

Immigration Services Division, Immigration and Naturalization Service, 801 I Street NW, Washington, DC 20536.

Notification Procedure:

Inquiries should be addressed to the Immigration Services Division, Attention: Naturalization Program manager.

Record Access Procedure:

Make all requests for access in writing to the FOIA/PA Officer at any INS office. Such requests may be submitted either by mail or in person. If a request for access is made by mail, the envelope and letter shall be clearly marked “Privacy Access Request.” The requester shall include a description of the general subject matter and if known, the related file number. To identify a record, the requester should provide his or her full name, date and place of birth, verification of identity in accordance with 8 CFR 103.21(b), or a statement of penalty of perjury, and any other identifying information (i.e., alien registration number and receipt number to assist in locating and/or verifying the identity of the record) that may be of assistance in locating the record. The requester shall also provide a return address for transmitting the records to be released.

Contesting Records Procedure:

Any individual desiring to contest or amend information maintained in this system of records should direct his or her request to the system manager noted in “System Manager(s) and Address,” or if unknown, the INS FOIA/PA Officer at 425 I Street NW, Washington, DC 20536. The request should state the information being contested, the reason(s) for contesting it, and the proposed amendment thereof. Persons filing such requests should mark the envelope with the following legend, Privacy Act Amendment Request.

Record Source Categories:

Information contained in this system of records is obtained from the individuals covered by the system and from Service officers involved in taking actions on or making decisions about the applications of the individuals covered by the system. Information is also derived from other Federal Government agencies.

Systems Exempted From Certain Provisions of The Act:

None.

[FR Doc. 02-10398 Filed 4-26-02; 8:45 am]

BILLING CODE 4410-10-P